DEPARTMENT OF ENERGY

Federal Energy Regulatory Commission

[Project No. 632-009 Utah]

Lower Monroe, Monroe City; Notice of Availability of Final Environmental Assessment

February 8, 2005.

In accordance with the National Environmental Policy Act of 1969 and the Federal Energy Regulatory Commission's (Commission) regulations, 18 CFR part 380 (Order No. 486, 52 FR 47897), the Office of Energy Projects has reviewed the application for a subsequent license for the Lower Monroe Hydroelectric Project, and has prepared an Environmental Assessment (EA). The operating project is located on Monroe Creek, 2 miles east of Monroe City, Sevier County, Utah. The project affects about 1.36 acres of federal lands within the Fishlake National Forest. The EA contains the staff's analysis of the potential environmental impacts of the project and concludes that licensing the project, with appropriate environmental protective measures, would not constitute a major Federal action that would significantly affect the quality of the human environment.

A copy of the EA is available for review at the Commission in the Public Reference Room or may be viewed on the Commission's Web site at http://www.ferc.gov using the “FERRIS” link. Enter the docket number excluding the last three digits in the docket number field to access the document. For assistance, call 1-866-208-3676 or for TTY, (202) 502-8659.

For further information, contact Gaylord Hoisington at (202) 502-6032.

Magalie R. Salas,
Secretary.

[FR Doc. E5-617 Filed 2-14-05; 8:45 am]

BILLING CODE 6717-01-P